U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on June 13, 2024 on “China's Stockpiling and Mobilization Measures for Competition and Conflict.”

DATES: The hearing is scheduled for Thursday, June 13, 2024 at 9:30 a.m.

ADDRESSES: Members of the public will be able to attend in person at a location TBD or view a live webcast via the Commission's website at www.uscc.gov. Visit the Commission's website for updates to the hearing location or possible changes to the hearing schedule. Reservations are not required to view the hearing online or in person.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the sixth public hearing the Commission will hold during its 2024 reporting cycle. The hearing will evaluate the Chinese Party-state's efforts to prepare society for a period of enhanced competition, crisis, or conflict. First, the hearing will examine Chinese leaders' rhetoric and efforts to instill a siege mentality in the Chinese public. Next, the hearing will examine China's efforts to materially and financially prepare its economy for a crisis or conflict scenario through efforts to boost domestic production capacity, sanction-proof its economy, and attain self-sufficiency in key sectors. Finally, the hearing will assess the China's national defense mobilization system and ability to leverage civilian resources during a crisis.

The hearing will be co-chaired by Commissioners Carte P. Goodwin and Cliff Sims. Any interested party may file a written statement by June 13, 2024 by transmitting it to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: May 24, 2024.
Christopher Fioravante,
Director of Operations and Administration, U.S.-China Economic and Security Review Commission.

[FR Doc. 2024-11841 Filed 5-29-24; 8:45 am]

BILLING CODE 1137-00-P